DEPARTMENT OF HOMELAND SECURITY

Bureau of U.S. Customs and Border Protection

19 CFR Part 177

Notice of Issuance of Final Determination Concerning Multi-Line Telephone Sets

AGENCY: U.S. Customs and Border Protection, Department of Homeland Security.

ACTION: Notice of final determination.

SUMMARY: This document provides notice that the Bureau of Customs and Border Protection (CBP) has issued a final determination concerning the country of origin of certain multi-line telephone sets to be offered to the United States Government under an undesignated government procurement contract. The final determination found that, based upon the facts presented, the country of origin of the Avaya Partner multi-line telephone set is Mexico.

DATES: The final determination was issued on July 1, 2005. A copy of the final determination is attached. Any party-at-interest, as defined in 19 CFR 177.22(d), may seek judicial review of this final determination within 30 days of July 11, 2005.

FOR FURTHER INFORMATION CONTACT: Ed Caldwell, Special Classification and Marking Branch, Office of Regulations and Rulings (202) 572-8872.

SUPPLEMENTARY INFORMATION: Notice is hereby given that on July 1, 2005, pursuant to Subpart B of Part 177, Customs Regulations (19 CFR part 177, subpart B), CBP issued a final determination concerning the country of origin of certain multi-line telephone sets to be offered to the United States Government under an undesignated government procurement contract. The CBP ruling number is HQ 563236. This final determination was issued at the request of Avaya, Inc., under procedures set forth at 19 CFR part 177, subpart B, which implements Title III of the Trade Agreements Act of 1979, as amended (19 U.S.C. 2511-18).

The final determination concluded that, based upon the facts presented, the assembly in Mexico of parts of various origins to create Avaya Partner multi-line telephone sets substantially transformed certain imported parts into a product of Mexico.

Section 177.29, Customs Regulations (19 CFR 177.29), provides that notice of final determinations shall be published in the Federal Register within 60 days of the date the final determination is issued. Section 177.30, Customs Regulations (19 CFR 177.30), states that any party-at-interest, as defined in 19 CFR 177.22(d), may seek judicial review of a final determination within 30 days of publication of such determination in the Federal Register.

Dated: July 6, 2005.
Michael T. Schmitz,
Assistant Commissioner, Office of Regulations and Rulings Attachment.

BILLING CODE 4820-02-P

[FR Doc. 05-13534 Filed 7-8-05; 8:45 am]

BILLING CODE 4820-02-C